DEPARTMENT OF THE INTERIOR

Bureau of Land Management

[LLUT030000.L17110000.DJ0000.LXSS037J0000]

Notice of Termination of the Livestock Grazing Monument Management Plan Amendment and Environmental Impact Statement, Utah

AGENCY: Bureau of Land Management, Interior.

ACTION: Notice of Termination.

SUMMARY: The preparation of an Environmental Impact Statement (EIS) associated with the Livestock Grazing Monument Management Plan Amendment for the Grand Staircase Escalante National Monument (GSENM) is superseded by a Monument Plan Revision and therefore is no longer required. The process is hereby terminated.

DATES: Termination of the EIS process for a Livestock Grazing Monument Management Plan Amendment takes effect immediately.

FOR FURTHER INFORMATION CONTACT: Matt Betenson, Associate Monument Manager, telephone (435) 644-1200; address: 669 S Hwy 89A, Kanab, UT 84741; email: mbeternso@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: Pursuant to Section 102(2)(c) of the National Environmental Policy Act of 1969, as implemented by the Council on Environmental Quality regulations (40 CFR parts 1500-1508), the Bureau of Land Management (BLM) announced its intent to prepare an EIS. The Notice of Intent was published in the Federal Register on November 4, 2013. The Plan Amendment would have considered modifying land use decisions associated with livestock grazing within the GSENM and portions of the Kanab Field Office, Arizona Strip Field Office, as well as lands managed by the National Park Service in the Glen Canyon National Recreation Area where GSENM administers grazing.

In 2013, the BLM determined that planning level decisions associated with livestock grazing may need to be modified and initiated a Plan Amendment effort. On December 4, 2017, Presidential Proclamation 9682 modified the boundaries of the GSENM. As a result of the boundary modification, the BLM has initiated a full Resource Management Plan (RMP) revision for the BLM-administered lands that were previously part of this analysis. The RMP revision will include consideration of livestock grazing in its planning-level decisions. The NOI for the RMP Revision was published on January 16, 2018.

The amendment for livestock grazing is no longer necessary and the BLM hereby terminates preparation of the Livestock Grazing Monument Management Plan Amendment and associated EIS.

Authority: 40 CFR 1506.6, 40 CFR 1506.10.

Edwin L. Roberson,
State Director.

[FR Doc. 2018-17611 Filed 8-14-18; 8:45 am]

BILLING CODE 4310-DQ-P